DEPARTMENT OF COMMERCE

National Institute of Standards and Technology

Announcing a Meeting of the Computer System Security and Privacy Advisory Board

AGENCY: National Institute of Standards and Technology.

ACTION: Notice of meeting.

SUMMARY: Pursuant to the Federal Advisory Committee Act, 5 U.S.C. App., notice is hereby given that the Computer System Security and Privacy Advisory Board (CSSPAB) will meet Tuesday, December 4, 2001, Wednesday, December 5, 2001, and Thursday, December 6, 2001, from 9 a.m. until 5 p.m. All sessions will be open to the public. However, all visitors to the National Institute of Standard and Technology site will have to pre-register to be admitted. Please submit your name, time of arrival, email address and phone number to Elaine Frye no later than November 30, 2001, and she will provide you with instructions for admittance. Ms. Fry'e email address is elaine.frye@nist.gov and her phone number is 301/975-2819. The Advisory Board was established by the Computer Security Act of 1987 (Pub. L. 100-235) to advise the Secretary of Commerce and the Director of NIST on security and privacy issues pertaining to federal computer systems. Details regarding the Board's activities are available at http://csrc.nist.gov/csspab/.

DATES: The meeting will be held on December 4, 5, and 6, 2001, from 9 a.m. until 5 p.m.

ADDRESSES: The meeting will take place at the National Institute of Standards and Technology, Administration Building, Lecture Room B, in Gaithersburg, Maryland. Please note admittance instructions under SUMMARY paragraph.

Agenda

—Welcome and Overview

—Session on Minimally Accepted Security Controls—to include briefings from Federal agencies such as the National Oceanic and Atmospheric Administration, Social Security Administration, Federal Communications Commission and the Federal Reserve

—Updates on Recent Legislative Issues

—Update on OMB Activities

—Discussion of Follow-On Actions from CSSPAB Privacy Event

—Public Participation

—Agenda Development for March 2002 meeting

—Wrap-up

Note that agenda items may change without notice because of possible unexpected schedule conflicts of presenters.

Public Participation: The Board agenda will include a period of time, not to exceed thirty minutes, for oral comments and questions from the public. Each speaker will be limited to five minutes. Members of the public who are interested in speaking are asked to contact the Board Secretariat at the telephone number indicated below. In addition, written statements are invited and may be submitted to the Board at any time. Written statements should be directed to the CSSPAB Secretariat, Information Technology Laboratory, 100 Bureau Drive, Stop 8930, National Institute of Standards and Technology, Gaithersburg, MD 20899-8930. It would be appreciated if 35 copies of written material were submitted for distribution to the Board and attendees no later than November 30, 2001. Approximately 15 seats will be available for the public and media.

FOR FURTHER INFORMATION CONTACT: Dr. Fran Nielsen, Board Secretariat, Information Technology Laboratory, National Institute of Standards and Technology, 100 Bureau Drive, Stop 8930, Gaithersburg, MD 20899-8930, telephone: (301) 975-3669.

Dated: November 8, 2001.
Karen H. Brown,
Acting Director, NIST.

[FR Doc. 01-29165 Filed 11-21-01; 8:45 am]

BILLING CODE 3510-CN-M